DEPARTMENT OF HOMELAND SECURITY

Coast Guard

[CDG01-04-108]

Draft Environmental Impact Statement; Goethals Bridge Modernization Program

AGENCY: Coast Guard, DHS.

ACTION: Notice of intent.

SUMMARY: The U.S. Coast Guard, as the Federal lead agency, and in cooperation with the Port Authority of New York and New Jersey (PANY&NJ), intends to prepare and circulate a Draft Environmental Impact Statement (DEIS) for a proposed new bridge to replace the existing Goethals Bridge which crosses the Arthur Kill between Staten Island, New York and Elizabeth, New Jersey and is part of the Goethals Bridge Modernization Program. This Notice of Intent is a necessary part of the Environmental Impact Statement process as required by the National Environmental Policy Act (NEPA). The Coast Guard issues this Notice of Intent to provide notice of the prospective project and to seek comments to ensure that all significant issues are identified and the full range of alternatives and impacts of the proposed project are addressed.

DATES: Comments must be received on or before September 9, 2004.

ADDRESSES: Comments may be mailed to Commander (obr), First Coast Guard District, Battery Park Building, One South Street, New York, New York, 10004.

FOR FURTHER INFORMATION CONTACT: Mr. Gary Kassof, Bridge Program Manager, at the address above or by telephone at (212) 668-7165.

SUPPLEMENTARY INFORMATION: This notice of intent is published as required by regulations of the Council on Environmental Quality at 40 CFR 1501.7.

The proposed project constitutes the PANY&NJ's Goethals Bridge Modernization Program (the “Program”). The Program proposes to replace the existing Goethals Bridge, which has substandard geometrics and is experiencing escalating deterioration, thereby causing safety and reliability concerns.

The design of a proposed new facility would reflect current traffic design standards, modern structural and seismic codes, national-security safeguards and technology enhancements. It would also add the operational flexibility to facilitate future transit-service opportunities.

A Coast Guard bridge permit authorizing the location and plans for the bridge project, which crosses navigable waters of the United States, is required before construction may begin. Based on available information, the Coast Guard has determined that an EIS would be the appropriate level of environmental documentation for assessing the potential impacts of the proposed project under Section 102(2)(C) of the National Environmental Policy Act (NEPA) of 1969, as amended.

In addition to the no-build alternative (no-action), the selection of alternatives to be evaluated in the DEIS may include: alternative alignments within the existing bridge corridor; alternative bridge designs; provision of high-occupancy vehicle or express bus lanes; intelligent vehicular highway system options; congestion pricing options; consideration of transit alternatives such as potential light rail, commuter rail, bus and/or ferry routes and services; as well as all other reasonable alternatives identified by the public.

Potentially significant issues to be evaluated include: displacement of residential, commercial and industrial properties; disruption of contaminated properties located within the proposed project right-of-way; existing and future land use and traffic patterns; threatened and endangered species, and critical habitat; historic and archeological resources, including the existing historic Goethals Bridge; wetlands; water quality; noise; air quality; navigation; construction impacts; and cumulative impacts.

A formal interagency scoping meeting with federal, state, and local agencies with environmental expertise is planned for early September 2004. In addition, public scoping meetings in both Staten Island and Elizabeth are planned for October 2004. The dates for the public scoping meetings will be announced locally as well as in the Federal Register.

All interested parties are invited to submit written comments to ensure that all significant issues are identified and the full range of alternatives and impacts of the proposed projects are addressed.

Dated: July 30, 2004.
John L. Greiner,
Captain, U.S. Coast Guard, Acting Commander, First Coast Guard District.

[FR Doc. 04-18205 Filed 8-9-04; 8:45 am]

BILLING CODE 4910-15-P